DEPARTMENT OF TRANSPORTATION

Office of the Secretary

[Docket No. DOT-OST-2020-0003]

Agency Information Collection Activities: Request for Comments; Renewal of a Previously Approved Information Collection: U.S. Department of Transportation, Individual Complaint of Employment Discrimination Form

AGENCY: Office of the Secretary, U.S. Department of Transportation.

ACTION: Notice and request for comments.

SUMMARY: In accordance with the Paperwork Reduction Act of 1995, this notice announces that the U.S. Department of Transportation (DOT) will forward the Information Collection Request (ICR) abstracted below to the Office of Management and Budget (OMB) for renewal of a previously approved collection. The ICR describes the nature of the information collection and its expected cost and burden hours. The OMB approved the form in 2017 with its renewal required by January 31, 2020. The Federal Register Notice with a 60-day comment period soliciting comments on the form renewal was published on November 1, 2019 [FR Vol. 84, No. 212, page 58830]. No comments were received.

DATES: Comments on this notice must be received by February 12, 2020.

FOR FURTHER INFORMATION CONTACT: Beverly Onwubere, Associate Director, Equal Employment Opportunity (EEO) Complaints and Investigations Division (S-34), U.S. Department of Transportation, Departmental Office of Civil Rights, W78-316, 1200 New Jersey Avenue SE, Washington, DC 20590, 202-366-5988 (office), beverly.onwubere@dot.gov.

SUPPLEMENTARY INFORMATION:

Title: Individual Compliant of Employment Discrimination Form.

Form Number: DOT-F 1050-8.

OMB Control Number: 2105-0556.

Type of Request: Renewal of a previously approved collection.

Abstract: The DOT will utilize the form to collect information necessary to process EEO discrimination complaints filed by individuals who are Federal employees, former employees or applicants for employment with the Department. These complaints are processed in accordance with the U.S. Equal Employment Opportunity Commission's regulations, Title 29, Code of Federal Regulations, Part 1614, as amended. The DOT will use the form to: (a) Request requisite information from the applicant for processing his/her EEO discrimination complaint; and (b) obtain information to identify an individual or his or her attorney or other representative, if appropriate. An applicant's filing of an EEO discrimination complaint is solely voluntary. The DOT estimates that it takes an applicant approximately one hour to complete the form.

Affected Public: Federal employees, former employees, or applicants for employment with the Department.

Estimated Number of Respondents: 100 per year.

Estimated Total Annual Estimated Burden: 100 hours.

Frequency of Collection: An individual's filing of an EEO complaint is solely voluntary.

ADDRESSES: Send comments regarding the burden estimate, including suggestions for reducing the burden, to the Office of Management and Budget, Attention: Desk Officer for the Office of the Secretary of Transportation, 725 17th Street NW, Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. All responses to this notice will be summarized and included in the request for Office of Management and Budget approval. All comments will also become a matter of public record.

Authority: The Paperwork Reduction Act of 1995; 44 U.S.C. Chapter 35, as amended; and 49 CFR 1:48.

Issued in Washington, DC, on January 7, 2020.
Charles E. James, Sr.,
Director, Departmental Office of Civil Rights, U.S. Department of Transportation.

BILLING CODE 4910-9X-P

[FR Doc. 2020-00283 Filed 1-10-20; 8:45 am]

BILLING CODE 4910-9X-C